DEPARTMENT OF THE INTERIOR

National Park Service

[2253-665]

Notice of Intent to Repatriate Cultural Items: Maxwell Museum of Anthropology, University of New Mexico, Albuquerque, NM

AGENCY: National Park Service, Interior.

ACTION: Notice.

SUMMARY: The Maxwell Museum of Anthropology, in consultation with the appropriate Indian tribes, has determined that a collection of cultural items meet the definition of sacred objects and repatriation to the Indian tribes stated below may occur if no additional claimants come forward. Representatives of any Indian tribe that believes itself to be culturally affiliated with the cultural items may contact the Maxwell Museum of Anthropology.

DATES: Representatives of any Indian tribe that believes it has a cultural affiliation with the cultural items should contact the Maxwell Museum of Anthropology at the address below by May 2, 2012.

ADDRESSES: David Phillips, Curator of Archaeology, Maxwell Museum of Anthropology, MSC01 1050, University of New Mexico, Albuquerque, NM 87131, telephone (505) 277-9229.

SUPPLEMENTARY INFORMATION: Notice is here given in accordance with the Native American Graves Protection and Repatriation Act (NAGPRA), 25 U.S.C. 3005, of the intent to repatriate cultural items under the control of the Maxwell Museum of Anthropology, University of New Mexico, Albuquerque, NM, that meet the definition of sacred objects under 25 U.S.C. 3001.

This notice is published as part of the National Park Service's administrative responsibilities under NAGPRA, 25 U.S.C. 3003(d)(3). The determinations in this notice are the sole responsibility of the museum, institution or Federal agency that has control of the Native American cultural items. The National Park Service is not responsible for the determinations in this notice.

History and Description of the Cultural Items

In 1949, the University of New Mexico (UNM) conducted an archeological field school at site LA 46316 (Wahaniak Shukuk Shtuitauwa/Correo Snake Pit) in Valencia County, NM. UNM students collected cultural objects from the site, many made of perishable materials. Limited additional collecting at the site by UNM probably took place in the year or years immediately following the field school. The items removed from site LA 46316 include 90 sacred objects commonly called prayer sticks, materials for making prayer sticks, decomposed prayer sticks, and six lots of loose feathers, at least some of which were a part of prayer sticks.

The collection was transferred to the Maxwell Museum of Anthropology. Due to poor documentation and analysis, the full extent and nature of the collection emerged only recently, as analysts began detailed studies of the cultural objects. To date, the UMN collection from site LA 46316 includes the sacred objects detailed above as well as other cultural items and two partial sets of human remains, which require additional consultation and analysis before determinations can be made.

Based on radiocarbon dating, site LA 46316 was first used around B.C. 1400, and remained in use for centuries. The site is an ecumenical shrine, containing a travertine dome with dry deposits. The first documented excavation of the site occurred in 1917 by Elsie Clews Parsons, who reported even earlier activities on the site by “treasure seekers.” Parsons described the shrine as a Laguna shrine, but stated that the site was used by visitors from “Acoma, Zuni, and other towns.” At the time of the UNM field school in 1949, the site was on privately owned land, but more recently, the land area was purchased by the Pueblo of Laguna. Today, the Pueblo of Laguna continues to use the site and considers itself the custodian of the shrine. During a 2011 inspection of the sacred objects, delegates from the Pueblo of Laguna confirmed the presence of Laguna and Acoma sacred objects in the collection and indicated that other sacred objects may be related to the Zuni and Hopi tribes. The sacred objects in this notice are reasonably believed to be affiliated with the Pueblo of Laguna as well as other Pueblo Indians (including, but not limited to, the Hopi Tribe of Arizona; Pueblo of Acoma, New Mexico; and the Zuni Tribe of the Zuni Reservation, New Mexico).

In response to consultations with Indian tribes (including in a letter from the Governor of the Pueblo of Laguna, representing the Pueblo in its role as land owner and custodian of the shrine), the staff of the Maxwell Museum will rebury the “prayer sticks,” “prayer stick materials,” and loose feathers from site LA 46316. The Pueblo of Laguna has agreed to provide access to the shrine and to supervise the return of the sacred objects.

Determinations Made by the Maxwell Museum of Anthropology

Officials of the Maxwell Museum of Anthropology have determined that:

• Pursuant to 25 U.S.C. 3001(3)(C), the 96 cultural items described above are specific ceremonial objects needed by traditional Native American religious leaders for the practice of traditional Native American religions by their present-day adherents.

• Pursuant to 25 U.S.C. 3001(2), there is a relationship of shared group identity that can be reasonably traced between the sacred objects and the Hopi Tribe of Arizona; Pueblo of Acoma, New Mexico; Pueblo of Laguna, New Mexico; and the Zuni Tribe of the Zuni Reservation, New Mexico.

Additional Requestors and Disposition

Representatives of any other Indian tribe that believes itself to be culturally affiliated with the sacred objects should contact David Phillips, Curator of Archaeology, Maxwell Museum of Anthropology, MSC01 1050, University of New Mexico, Albuquerque, NM 87131, telephone (505) 277-9229, before May 2, 2012. Repatriation of the sacred objects to the Pueblo of Laguna, New Mexico, may proceed after that date if no additional claimants come forward.

The Maxwell Museum of Anthropology is responsible for notifying the Hopi Tribe of Arizona; Pueblo of Acoma, New Mexico; Pueblo of Laguna, New Mexico; and the Zuni Tribe of the Zuni Reservation, New Mexico that this notice has been published.

Dated: March 28, 2012
Sherry Hutt,
Manager, National NAGPRA Program.

[FR Doc. 2012-7884 Filed 3-30-12; 8:45 am]

BILLING CODE 4312-50-P